DEPARTMENT OF HEALTH AND HUMAN SERVICES

Administration for Children and Families

Statement of Organization, Functions and Delegations of Authority

Notice is hereby given that I have delegated to the Assistant Secretary for Children and Families, with authority to re-delegate to the Director of the Office of Refugee Resettlement, the following authority vested in the Secretary under the William Wilberforce Trafficking Victims Protection Reauthorization Act of 2008 Public Law 110-457 § 235, amended.

Authority Delegated

Authority under the William Wilberforce Trafficking Victims Protection Reauthorization Act of 2008 § 235(a)(1) to work in conjunction with the Secretary of Homeland Security, the Secretary of State, and the Attorney General, to develop policies and procedures to ensure that unaccompanied alien children (UAC) are safely repatriated to their country of nationality or of last habitual residence.

2. Authority under the William Wilberforce Trafficking Victims Protection Reauthorization Act of 2008 § 235(a)(5)(A) to work in conjunction with the Secretary of State and the Secretary of Homeland Security, nongovernmental organizations, and other national and international agencies and experts, to create a pilot program to develop and implement best practices for the repatriation and reintegration of UAC.

3. Authority under the William Wilberforce Trafficking Victims Protection Reauthorization Act of 2008 § 235(b)(1) to provide care and custody of all UAC, except as otherwise provided under § 235(a), including responsibility for their detention, where appropriate.

4. Authority under the William Wilberforce Trafficking Victims Protection Reauthorization Act of 2008 § 235(b)(4) to develop age determination procedures in consultation with the Secretary of Homeland Security.

5. Authority under the William Wilberforce Trafficking Victims Protection Reauthorization Act of 2008 § 235(c)(1) to establish policies and programs to ensure that UAC are protected from traffickers and other persons seeking to victimize or otherwise engage such children in criminal, harmful or exploitative activity.

6. Authority under the William Wilberforce Trafficking Victims Protection Reauthorization Act of 2008 § 235(c)(2) to place an unaccompanied alien child in the least restrictive setting that is in the best interest of the child. In making such placements, personnel in the Administration for Children and Families may consider danger to self, danger to the community, and risk of flight. Concerning placements in a secure facility, the personnel in the Administration for Children and Families shall review the placements, at a minimum, on a monthly basis to determine if such placements remain warranted. Placement of child trafficking victims may include placement in an Unaccompanied Refugee Minors (URM) program, pursuant to section 4 12(d) of the Immigration and Nationality Act (8 U.S.C. 1522(d)).

7. Authority under the William Wilberforce Trafficking Victims Protection Reauthorization Act of 2008 § 235(c)(3)(A) to place an unaccompanied alien child with a custodian upon determining that the proposed custodian is capable of providing for the child's physical and mental well-being. Such determination shall, at a minimum, include verification of the custodian's identity and relationship to the child and an independent finding that the custodian has not engaged in any activity that would pose a potential risk to the child.

8. Authority under the William Wilberforce Trafficking Victims Protection Reauthorization Act of 2008 § 235(c)(3)(B) to conduct a home study for a child who is a victim of a severe form of trafficking in persons, a special needs child with a disability, a child who has been a victim of physical or sexual abuse under circumstances that indicate that the child's health or welfare has been significantly harmed or threatened, or a child whose proposed sponsor clearly presents a risk of abuse, maltreatment, exploitation, or trafficking to the child based on all available objective evidence.

9. Authority under the William Wilberforce Trafficking Victims Protection Reauthorization Act of 2008 § 235(c)(3)(B) to conduct follow-up services, during the pendency of removal proceedings, on children for whom a home study was conducted, and to conduct follow-up services for those UAC with mental health or other needs.

10. Authority under the William Wilberforce Trafficking Victims Protection Reauthorization Act of 2008 § 235(c)(4) to cooperate with the Executive Office for Immigration Review (EOIR) to ensure that custodians of UAC receive legal orientation presentations provided through the Legal Orientation Program administered by EOIR.

11. Authority under the William Wilberforce Trafficking Victims Protection Reauthorization Act of 2008 § 235(c)(5) to ensure, to the greatest extent practicable and consistent with section 292 of the Immigration and Nationality Act (8 U.S.C. 1362), that UAC who are or have been in the custody of the Secretary or the Secretary of Homeland Security, and who are not described in § 235(a)(2)(A), have counsel. To the greatest extent practicable, personnel in the Administration for Children and Families shall make every effort to use the services of pro bono counsel who agree to provide representation to such UAC without charge.

12. Authority under the William Wilberforce Trafficking Victims Protection Reauthorization Act of 2008 § 235(c)(6) to appoint independent child advocates for child trafficking victims or other vulnerable UAC.

13. Authority under the William Wilberforce Trafficking Victims Protection Reauthorization Act of 2008 § 235(d)(1) to specifically consent to juvenile court jurisdiction for an unaccompanied alien child who is applying for special immigrant status pursuant to 101(a)(27)(J) of the Immigration and Nationality Act (8 U.S.C. 1 101(a)(27)(J)) and who is in the custody of the Secretary.

14. Authority under the William Wilberforce Trafficking Victims Protection Reauthorization Act of 2008 § 235(d)(4)(A) to make eligible for placement and services under a URM program pursuant to § 412(d) of the Immigration and Nationality Act (8 U.S.C. 1522(d)) children granted special immigrant status under section 101(a)(27)(J) of the Immigration and Nationality Act (8 U.S.C. 1101(a)(27)(J)) and who were either in the custody of the Secretary or who were receiving services pursuant to section 501(a) of the Refugee Education Assistance Act of 1980 (8 U.S.C. 1522 note) at the time a dependency order was granted.

15. Authority under the William Wilberforce Trafficking Victims Protection Reauthorization Act of 2008 § 235(e) to train Federal personnel, and upon request, State and local personnel, who have substantive contact with UAC.

I hereby affirmed and ratified any actions taken by the Assistant Secretary for Children and Families or any other Administration for Children and Families officials, which, in effect, involved the exercise of this authority prior to the effective date of this delegation.

Limitations

1. This delegation shall be exercised under the Departments' existing delegation of authority and policy on regulations.

2. This delegation shall be exercised under financial and administrative requirements applicable to all Administration for Children and Families authorities.

Effective Date

This delegation of authority is effective on date of signature.

Dated: March 23, 2009.
Charles E. Johnson,
Acting Secretary, Department of Health and Human Services.

[FR Doc. E9-6959 Filed 3-30-09; 8:45 am]

BILLING CODE 4184-01-M